DEPARTMENT OF THE INTERIOR

Central Utah Project Completion Act

AGENCIES: Department of the Interior, Office of the Assistant Secretary—Water and Science, (Interior); Utah Reclamation Mitigation and Conservation Commission, (Mitigation Commission); Central Utah Water Conservancy District, (CUWCD).

ACTION: Notice of availability of the Utah Lake Drainage Basin Water Delivery System, Draft Environmental Impact Statement authorized in Section 202(a)(1) of the Central Utah Project Completion Act (CUPCA), which is part of the Bonneville Unit of the Central Utah Project.

SUMMARY: Pursuant to section 102(2)(C) of the National Environmental Policy Act of 1969, as amended, Interior, CUWCD, and the Mitigation Commission (joint lead agencies), have issued a Draft Environmental Impact Statement (DEIS) for the Utah Lake Drainage Basin Water Delivery System (Utah Lake System), Bonneville Unit, Central Utah Project. The DEIS addresses potential impacts related to construction and operation of the features proposed for the Utah Lake System. The DEIS is intended to satisfy disclosure requirements of the National Environmental Policy Act (NEPA) and will serve as the NEPA compliance document for contracts, agreements and permits that would be required for construction and operation of the Utah Lake System. The DEIS is intended to provide NEPA compliance for the Clean Water Act Section 404(r) exemption process. In addition to this notification, notices will be published in local newspapers. The purpose of these publications is to give notice to all interested parties of the availability of the Utah Lake System DEIS and provide an opportunity for the public to submit written comments.

DATES: Written comments on the DEIS must be submitted or postmarked no later than June 11, 2004. Electronic comments will not be accepted. Comments on the DEIS may also be presented verbally or submitted in writing at public hearings that will be held on: April 28, 2004, at 5 p.m. at the Sandy City Hall, located at 10,000 South Centennial Parkway, Sandy, Utah; and April 29, 2004, at 5 p.m. at the Veterans Memorial Building in Spanish Fork, located at 386 North Main Street, Spanish Fork, Utah. Verbal comments at the hearings will be limited to 5 minutes. Those wishing to give verbal comments should submit a registration form, included at the end of the DEIS, to the address listed below one week prior to the public hearings. In order to be included as part of the hearing record, written comments must be submitted at the time of the hearing.

ADDRESSES: Comments on the DEIS should be addressed to Mr. Mark Breitenbach, Central Utah Water Conservancy District, 355 West University Parkway, Orem, Utah, 84058.

FOR FURTHER INFORMATION CONTACT: Additional information on matters related to this notice can be obtained from Mr. Reed Murray at (801) 379-1237, or he can be reached over the Internet at rmurray@uc.usbr.gov.

Additional copies of the DEIS, and copies of the resource technical reports can be obtained from Ms. Laurie Barnett, Central Utah Water Conservancy District, 355 West University Parkway, Orem, Utah, 84058.

Copies are also available for inspection at:

Central Utah Water Conservancy District, 355 West University Parkway, Orem, Utah 84058.

Utah Reclamation Mitigation and Conservation Commission, 102 West 500 South, Suite 315, Salt Lake City UT 84101.

Department of the Interior, Natural Resource Library, Serials Branch, 18th C Streets, NW., Washington, DC 20240.

Department of the Interior, Central Utah Project Completion Act Office, 302 East 1860 South, Provo, Utah 84606. and on the Central Utah Water Conservancy District Web site at: http://www.cuwcd.com/cupca/projects/uls/index.htm.

SUPPLEMENTARY INFORMATION: Background—The Utah Lake System is one of the systems of the Bonneville Unit of the Central Utah Project that would develop central Utah's water resources for municipal and industrial supply, fish and wildlife, and recreation. Initiation of planning for the Utah Lake System was announced in the Federal Register on October 14, 1998, (FR Doc. 98-27484). Notice of intent to initiate scoping and prepare a DEIS was announced in the Federal Register on August 23, 2000, (FR Doc. 00-21458). Scoping was accomplished in two stages: informal scoping was conducted through public meetings in September 2000 and October 2001; and formal scoping was conducted through mailings and public meetings during February 2002. Comments received through the scoping process were considered during preparation of the DEIS.

Preferred Alternative—The Utah Lake System Preferred Alternative would provide an average transbasin diversion of 101,900 acre-feet which consists of 30,000 acre-feet of Municipal and Industrial (M&I) secondary water to southern Utah County and 30,000 acre-feet of M&I water to Salt Lake County water treatment plants; 1,590 acre-feet of M&I water already contracted to southern Utah County cities, and 40,310 acre-feet of M&I water to Utah Lake for exchange to Jordanelle Reservoir. It would conserve water in a Mapleton-Springville Lateral Pipeline, conserve water in the Provo River basin and deliver it along with acquired water to assist June sucker spawning and rearing, convey water to support in-stream flows in Provo River and in Hobble Creek to assist recovery of the June sucker, and develop hydropower. This alternative would involve construction of five new pipelines for delivery of water and 2 new hydropower plants and associated transmission lines. Under this alternative, Interior would acquire up to 57,003 acre-feet of the District's secondary water rights in Utah Lake to provide a firm annual yield of 60,000 acre-feet of M&I water.

Bonneville Unit Water Alternative—The Bonneville Unit Water Alternative would have an average transbasin diversion of 101,900 acre-feet consisting of: 1,590 acre-feet of M&I water already contracted to the southern Utah County cities; 15,800 acre-feet of M&I water to southern Utah County to be used in secondary water systems; and 84,510 acre-feet of M&I water delivered to Utah Lake for exchange to Jordanelle Reservoir. It would conserve water in a Mapleton-Springville Lateral Pipeline, conserve water in the Provo River basin and deliver it along with acquired water to assist June sucker spawning and rearing, convey water to support in-stream flows in Hobble Creek to assist recovery of the June sucker, and develop hydropower. It would involve construction of three new pipelines and two new hydropower plants with associated transmission lines. Under this alternative, Interior would acquire up to 15,000 acre-feet of the District's secondary water rights in Utah Lake to provide a firm annual yield of 15,800 acre-feet of M&I water.

No Action Alternative—No new water conveyance features would be constructed under the No Action Alternative. The delivery of 86,100 acre-feet of Bonneville Unit M&I exchange water would be made without any shortages. Some of the Bonneville Unit M&I exchange water would be routed through the Strawberry Tunnel to meet instream flow needs in Sixth Water and Diamond Fork creeks. The remaining Bonneville Unit M&I exchange water would be conveyed through the Diamond Fork System and discharged into Diamond Fork Creek at the outlet near Monks Hollow or discharged from the Diamond Fork Pipeline into the Spanish Fork River at the mouth of Diamond Fork Canyon. The irrigation diversions on lower Spanish Fork River would be modified to bypass and measure the 86,100 acre-feet into Utah Lake, and to allow fish passage as previously agreed by the Interior and District in the 1999 Diamond Fork FS-FEIS and ROD. The Interior would not purchase any of the District's secondary water rights in Utah Lake and no water would be conveyed to Hobble Creek. The No Action Alternative would be the same as the Interim Proposed Action in the Diamond Fork FS-FEIS.

Dated: March 25, 2004.
Ronald Johnston,
Program Director, Department of the Interior.
Michael C. Weland,
Executive Director, Utah Reclamation Mitigation and Conservation Commission.

[FR Doc. 04-7034 Filed 3-29-04; 8:45 am]

BILLING CODE 4310-RK-P